DEPARTMENT OF AGRICULTURE

Forest Service

Aerial Herbicide Application; Caribou-Targhee National Forest; Caribou and Franklin Counties, ID

AGENCY: Forest Service, USDA.

ACTION: Notice of intent to prepare an Environmental Impact Statement.

SUMMARY: The Montpelier Ranger District, Caribou-Targhee National Forest will be preparing an Environmental Impact Statement (EIS) to analyze the effects of adding aerial herbicide applications to the existing integrated noxious weed management activities within the Cache Valley Front on 31,000 acres of the Caribou-Targhee National Forest. The project area is in the Idaho tract of the Cache National Forest. It includes a portion of the west slope of the Bear River Range that extends from Highway 36 to Soda Point. The project area is south of Soda Springs, and east of Grace, ID, and is within the Montpelier Ranger District, Caribou-Targhee National Forest, Idaho. The scope of this analysis is limited to the addition of aerial herbicide application to existing integrated weed management activities within the Caribou-Targhee National Forest boundary. The project impact zone includes Caribou and Franklin Counties, Idaho, and Idaho Fish and Game Hunting Unit (75). Implementation of this project is scheduled to begin in fiscal year 2007. The decision would authorize aerial application of herbicide within the Cache Valley Front on 31,000 acres of the Caribou-Targhee National Forest.

DATES: Written comments concerning the scope of the analysis described in this Notice should be received within 30 days of the date of publication of this Notice in the Federal Register. No scoping meetings are planned at this time. Information received will be used in preparation of the Draft EIS and Final EIS.

ADDRESSES: Send written comments to Montpelier Ranger District, Attn. Dennis Duehren, 322 North 4th St., Montpelier, Idaho 83254. The responsible official for this decision is Dennis Duehren, District Ranger.

FOR FURTHER INFORMATION CONTACT: Questions concerning the proposed action and EIS should be directed to Heidi Heyrend, Rangeland Management Specialist, at (208) 847-0375.

SUPPLEMENTARY INFORMATION: The Forest Service invites written comments and suggestions on the issues related to the proposal and the area being analyzed. Information received will be used in preparation of the Draft EIS and Final EIS. For most effective use, comments should be submitted to the Forest Service within 30 days from the date of publication of this Notice in the Federal Register.

Agency representatives and other interested people are invited to visit with Forest Service officials at any time during the EIS process. Two specific time periods are identified for the receipt of formal comments on the analysis. The two comment periods include during the scoping process (the next thirty days following the publication of this Notice in the Federal Register) and during the formal review period of the Draft EIS.

The Forest Service estimates the Draft EIS will be filed within 4 months of this Notice of Intent, approximately December 2006. The Final EIS will be filed within 4 months of that date, approximately April 2007.

The Forest Service believes, at this early stage, it is important to give reviewers notice of several court rulings related to public participation in the environmental review process. First, reviewers of draft environmental impact statements must structure their participation in the environmental review of the proposal so that it is meaningful and alerts an agency to the reviewer's position and contentions, Vermont Yankee Nuclear Power Corp. v. NRDC, 435 U.S. 519, 553 (1978). Also environmental objections that could be raised at the draft environmental impact statement stage but that are not raised until after completion of the final environmental impact statement may be waived or dismissed by the courts, City of Angoon v, Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received, including the names and addresses of those who comment, will be considered part of the public record on this proposal and will be available for public inspection.

(Authority: 40 CFR 1501.7 and 1508.22; Forest Service Handbook 1909.15, Section 21)

Dated: July 28, 2006.
Dennis Duehren,
District Ranger, Caribou-Targhee National Forest, Intermountain Region, USDA Forest Service.

[FR Doc. 06-6845 Filed 8-10-06; 8:45 am]

BILLING CODE 3410-11-M